DEPARTMENT OF TRANSPORTATION

Federal Aviation Administration

14 CFR Part 39

[Docket No. FAA-2011-0994; Directorate Identifier 2010-NM-143-AD; Amendment 39-16949; AD 2012-03-08]

RIN 2120-AA64

Airworthiness Directives; Bombardier, Inc. Airplanes

AGENCY: Federal Aviation Administration (FAA), DOT.

ACTION: Final rule.

SUMMARY: We are superseding an existing airworthiness directive (AD) for certain Bombardier, Inc. Model CL-600-2C10 (Regional Jet Series 700, 701, & 702), CL-600-2D15 (Regional Jet Series 705), and CL-600-2D24 (Regional Jet Series 900) airplanes. That AD currently requires repetitive detailed inspections for cracking or deformation, or pulled or missing fasteners, on the lower panel of the left- and right-hand main landing gear (MLG) doors, as applicable, and corrective actions if necessary. That AD also reduces the repetitive inspection interval for certain airplanes. This new AD adds a new modification of the MLG door configuration, and removes certain airplanes from the applicability. This AD was prompted by further analysis of the MLG door by the manufacturer. We are issuing this AD to prevent failure of the lower panel of the MLG door, departure of the lower panel from the airplane, and consequent damage to airplane structure, which could adversely affect the airplane's continued safe flight and landing.

DATES: This AD is effective April 4, 2012.

The Director of the Federal Register approved the incorporation by reference of certain publications listed in the AD as of April 4, 2012.

ADDRESSES: For service information identified in this AD, contact Bombardier, Inc., 400 Côte-Vertu Road West, Dorval, Québec H4S 1Y9, Canada; telephone 514-855-5000; fax 514-855-7401; email thd.crj@aero.bombardier.com; Internet http://www.bombardier.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Aziz Ahmed, Aerospace Engineer, Airframe and Mechanical Systems Branch, ANE-171, FAA, New York Aircraft Certification Office (ACO), 1600 Stewart Avenue, Suite 410, Westbury, New York 11590; phone: 516-228-7329; fax: (516) 794-5531; email: aziz.ahmed@faa.gov.

SUPPLEMENTARY INFORMATION:

Discussion

We issued a notice of proposed rulemaking (NPRM) to amend 14 CFR part 39 to supersede AD 2006-14-05, Amendment 39-14676 (71 FR 38979, July 11, 2006). That AD applies to the specified products. The NPRM was published in the Federal Register on October 5, 2011 (76 FR 61633). That NPRM proposed to continue to require repetitive detailed inspections for cracking or deformation, or pulled or missing fasteners, on the lower panel of the left- and right-hand main landing gear (MLG) doors, as applicable, and corrective actions if necessary. That NPRM also proposed to reduce the repetitive inspection interval for certain airplanes. In addition, that NPRM proposed to add a new modification of the MLG door configuration, and remove certain airplanes from the applicability.

Comments

We gave the public the opportunity to participate in developing this AD. We have considered the comment received. The Air Line Pilots Association International supports the NPRM (76 FR 61633, October 5, 2011).

Explanation of Changes Made to This AD

We have revised certain headers throughout this AD. We have also revised the wording in paragraphs (q) and (s) of this AD; this change has not changed the intent of these paragraphs.

Conclusion

We reviewed the available data, including the comment received, and determined that air safety and the public interest require adopting the AD with the changes described previously—and minor editorial changes. We have determined that these minor changes:

• Are consistent with the intent that was proposed in the NPRM (76 FR 61633, October 5, 2011) for correcting the unsafe condition; and

• Do not add any additional burden upon the public than was already proposed in the NPRM (76 FR 61633, October 5, 2011).

Costs of Compliance

We estimate that this AD affects about 220 products of U.S. registry.

The actions that are required by AD 2006-14-05, Amendment 39-14676 (71 FR 38979, July 11, 2006), and retained in this AD take about 3 work-hours per product, at an average labor rate of $85 per work hour. Based on these figures, the estimated cost of the currently required actions is $255 per product.

We estimate that it will take about 115 work-hours per product to comply with the new basic requirements of this AD. The average labor rate is $85 per work-hour. Required parts will cost about $0 per product. Where the service information lists required parts costs that are covered under warranty, we have assumed that there will be no charge for these costs. As we do not control warranty coverage for affected parties, some parties may incur costs higher than estimated here. Based on these figures, we estimate the cost of the AD on U.S. operators to be $2,150,500, or $9,775 per product.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2006-14-05, Amendment 39-14676 (71 FR 38979, July 11, 2006), and adding the following new AD:

2012-03-08 Bombardier Inc.: Amendment 39-16949; Docket No. FAA-2011-0994; Directorate Identifier 2010-NM-143-AD.

(a) Effective Date

This airworthiness directive (AD) is effective April 4, 2012.

(b) Affected ADs

This AD supersedes AD 2006-14-05, Amendment 39-14676 (71 FR 38979, July 11, 2006).

(c) Applicability

This AD applies to Bombardier, Inc. Model CL-600-2C10 (Regional Jet Series 700, 701, & 702) airplanes having serial numbers (S/Ns) 10003 through 10230 inclusive; and Model CL-600-2D15 (Regional Jet Series 705) airplanes; and Model CL-600-2D24 (Regional Jet Series 900) airplanes having S/Ns 15001 through 15053 inclusive, 15055, and 15056; certificated in any category.

(d) Subject

Air Transport Association (ATA) of America Code 32: Landing gear.

(e) Reason

This AD was prompted by further analysis of the main landing gear (MLG) door by the manufacturer. We are issuing this AD to prevent failure of the lower panel of the MLG door, departure of the lower panel from the airplane, and consequent damage to airplane structure, which could adversely affect the airplane's continued safe flight and landing.

(f) Compliance

You are responsible for having the actions required by this AD performed within the compliance times specified, unless the actions have already been done.

(g) Restatement of Requirements of AD 2003-19-51, Amendment 39-13353 (68 FR 61615, October 29, 2003), With Revised Serial Numbers and Service Information: Initial Compliance Time

For Model CL-600-2C10 (Regional Jet series 700 & 701) series airplanes, S/Ns 10003 through 10230 inclusive; and Model CL-600-2D24 (Regional Jet series 900) series airplanes, S/Ns 15002 through 15053 inclusive, 15055, and 15056: Perform the initial inspection specified in paragraph (h) of this AD at the applicable time specified in paragraph (g)(1) or (g)(2) of this AD.

(1) For airplanes with fewer than 1,500 total flight cycles as of November 3, 2003 (the effective date of AD 2003-19-51, Amendment 39-13353 (68 FR 61615, October 29, 2003)): Do the inspections before the accumulation of 1,050 total flight cycles, or within 50 flight cycles after August 15, 2006 (the effective date of AD 2006-14-05, Amendment 39-14676 (71 FR 38979, July 11, 2006)), whichever is later.

(2) For airplanes with 1,500 or more total flight cycles as of November 3, 2003: Do the inspections within 10 flight cycles after August 15, 2006.

(h) Restatement of Requirements of AD 2003-19-51, Amendment 39-13353 (68 FR 61615, October 29, 2003), With Revised Serial Numbers and Service Information: Inspections

For Model CL-600-2C10 (Regional Jet series 700 & 701) series airplanes, S/Ns 10003 through 10230 inclusive; and Model CL-600-2D24 (Regional Jet series 900) series airplanes, S/Ns 15002 through 15053 inclusive, 15055 and 15056: At the applicable time specified in paragraph (g) of this AD, perform detailed inspections of the lower panel, part number (P/N) CC670-10520, of the left- and right-hand MLG doors for the conditions and in the areas specified in paragraphs (h)(1), (h)(2), (h)(3), and (h)(4) of this AD; and Figures 1, 2, and 3 of this AD. For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) Inspect the cross member, P/N CC670-10572, of the MLG door lower panel for cracking or deformation, in accordance with Figure 2 of this AD.

(2) Inspect the inner skin, P/N CC670-10577, of the MLG door lower panel at the cross member (P/N CC670-10572) for cracking or deformation, or pulled or missing fasteners, in accordance with Figure 2 of this AD.

(3) Inspect the outer skin, P/N CC670-10574, of the MLG door lower panel at the cross member (P/N CC670-10572) for cracking or deformation, or pulled or missing fasteners, in accordance with Figure 2 of this AD.

(4) Inspect the forward member, P/N CC670-10570, and aft member, P/N CC670-10571, of the MLG door lower panel for cracking or deformation, or pulled or missing fasteners, in accordance with Figure 3 of this AD. Figures 1 through 3 of this AD follow.

BILLING CODE 4910-13-P

BILLING CODE 4910-13-C

(i) Restatement of Requirements of AD 2003-19-51, Amendment 39-13353 (68 FR 61615, October 29, 2003), With Revised Serial Numbers and Service Information: Repetitive Inspections

If no cracking or deformation, or pulled or missing fastener, as applicable, is found during any inspection required by paragraph (h) or (i) of this AD, repeat the inspections thereafter at intervals not to exceed 100 flight cycles.

(j) Restatement of Requirements of AD 2003-19-51, Amendment 39-13353 (68 FR 61615, October 29, 2003), With Revised Serial Numbers and Service Information: Corrective Actions

If any cracking or deformation, or pulled or missing fastener, as applicable, is found during any inspection done in accordance with paragraph (h) or (i) of this AD: Before further flight, accomplish paragraph (j)(1), (j)(2), or (j)(3) of this AD.

(1) Repair the damage in accordance with a method approved by either the Manager, New York Aircraft Certification Office (ACO), FAA; or Transport Canada Civil Aviation (TCCA) (or its delegated agent); and accomplish repetitive inspections in accordance with a method and at a repetitive interval approved by same.

(2) Replace the lower panel assembly, P/N CC670-10520, of the affected MLG door with a new or serviceable lower panel assembly having the same P/N, according to a method approved by either the Manager, New York ACO, FAA; or TCCA (or its delegated agent). Repeat the inspections specified in paragraph (h) of this AD at intervals not to exceed 100 flight cycles.

Note 1 to paragraph (j)(2) of this AD: Guidance on replacing the lower panel assembly can be found in Task Cards 32-12-01-000-801-A01 and 32-12-01-400-801-A01 of the Bombardier CRJ 700/900 Series Regional Jet Aircraft Maintenance Manual.

(3) Remove the lower panel assembly, P/N CC670-10520, of the affected MLG door, and accomplish paragraph (j)(3)(i) or (j)(3)(ii) of this AD, as applicable.

(i) For Model CL600-2C10 (Regional Jet series 700 & 701) series airplanes: Revise the Configuration Deviation List (CDL), Appendix 1, of the airplane flight manual (AFM), to include the following limitations. This may be accomplished by inserting a copy of this AD into the CDL of the AFM.

For Model CL600-2C10 series airplanes: If one or both door panel assemblies, part number CC670-10520, is missing:

(1) Take-off Weight is reduced by 202.5 kg/door, or 450 lb/door.

(2) Enroute Climb Weight is reduced by 445.5 kg/door, or 990 lb/door.

(3) Landing Weight is reduced by 202.5 kg/door, or 450 lb/door.

(4) Fuel Consumption is increased by +3.42% on fuel used/door.

(5) Cruise Airspeed is limited to not more than 0.78 Mach.

(ii) For Model CL-600-2D24 (Regional Jet series 900) series airplanes: Revise the CDL, Appendix 1, of the AFM, to include the following limitations. This may be accomplished by inserting a copy of this AD into the CDL of the AFM.

For Model CL600-2D24 series airplanes: If one or both door panel assemblies, part number CC670-10520, is missing:

(1) Take-off Weight is reduced by 245 kg/door, or 540 lb/door.

(2) Enroute Climb Weight is reduced by 551 kg/door, or 1,215 lb/door.

(3) Landing Weight is reduced by 245 kg/door, or 540 lb/door.

(4) Fuel Consumption is increased by +3.42% on fuel used/door.

(5) Cruise Airspeed is limited to not more than 0.78 Mach.

(k) Restatement of Requirements of AD 2006-14-05, Amendment 39-14676 (71 FR 38979, July 11, 2006), With Revised Service Information: Inboard MLG Door Inspections

For all airplanes on which an inspection has not been done in accordance with paragraph (h) of this AD on or before August 15, 2006: At the applicable time specified in paragraph (k)(1) or (k)(2) of this AD, do the inspections of the left- and right-hand inboard MLG doors for damage, in accordance with Part A of the Accomplishment Instructions of Bombardier Alert Service Bulletin A670BA-32-016, Revision A, dated June 7, 2005, excluding Appendix A, dated June 2, 2005, and including Appendix B, dated June 2, 2005; or Bombardier Alert Service Bulletin A670BA-32-016, Revision F, dated May 14, 2010, excluding Appendix A, dated June 2, 2005, and including Appendix B, dated June 2, 2005. Doing the inspections required by this paragraph terminates the actions required by paragraphs (g) through (j) of this AD. As of the effective date of this AD, use only Bombardier Alert Service Bulletin A670BA-32-016, Revision F, dated May 14, 2010, excluding Appendix A, dated June 2, 2005, and including Appendix B, dated June 2, 2005.

(1) For airplanes that have accumulated fewer than 1,500 total flight cycles as of August 15, 2006: Before the accumulation of 1,000 total flight cycles, or within 50 flight cycles after August 15, 2006, whichever occurs later.

(2) For airplanes that have accumulated 1,500 flight cycles or more as of August 15, 2006: Within 10 flight cycles after August 15, 2006.

(l) Restatement of Requirements of AD 2006-14-05, Amendment 39-14676 (71 FR 38979, July 11, 2006), With Revised Service Information: Inboard MLG Door Inspections

For airplanes on which an inspection has been done in accordance with paragraph (h) of this AD on or before August 15, 2006: At the applicable time specified in paragraph (l)(1) or (l)(2) of this AD, inspect installed door(s) as specified in paragraph (k) of this AD. Doing the inspections required by this paragraph terminates the actions required by paragraphs (g) through (j) of this AD.

(1) For airplanes that are not subject to an approved alternative method of compliance (AMOC) that extends the inspection interval to 450 flight cycles: Within 100 flight cycles since the last inspection done in accordance with paragraph (h) of this AD.

(2) For airplanes that are subject to an approved AMOC that extends the inspection interval to 450 flight cycles: At the earlier of the times specified in paragraphs (l)(2)(i) and (l)(2)(ii) of this AD:

(i) Within 450 flight cycles since the last inspection done in accordance with paragraph (h) of this AD.

(ii) Within 100 flight cycles since the last inspection done in accordance with paragraph (h) of this AD, or within 50 cycles after August 15, 2006, whichever occurs later.

(m) Restatement of Requirements of AD 2006-14-05, Amendment 39-14676 (71 FR 38979, July 11, 2006), With Revised Service Information: Repetitive Inspections

If no damage is found during any inspection done in accordance with paragraph (k) of this AD, repeat the inspections specified in paragraph (k) of this AD thereafter at intervals not to exceed 100 flight cycles.

(n) Restatement of Requirements of AD 2006-14-05, Amendment 39-14676 (71 FR 38979, July 11, 2006), With Revised Service Information: Corrective Action—Replace or Remove MLG Door

If any damage is found during any inspection done in accordance with paragraph (k) of this AD, before further flight, do the actions in paragraph (n)(1) or (n)(2) of this AD. Repeat the inspections specified in paragraph (k) of this AD thereafter at intervals not to exceed 100 flight cycles.

(1) Replace the inboard MLG door with a new or repaired door in accordance with Part B of the Accomplishment Instructions of the Bombardier Alert Service Bulletin A670BA-32-016, Revision A, dated June 7, 2005, excluding Appendix A, dated June 2, 2005, and including Appendix B, dated June 2, 2005; or Bombardier Alert Service Bulletin A670BA-32-016, Revision F, dated May 14, 2010, excluding Appendix A, dated June 2, 2005, and including Appendix B, dated June 2, 2005; except where those service bulletins specify to contact the manufacturer for repair if no generic repair engineering order (REO) is available, before further flight, repair using a method approved by either the Manager, New York ACO, FAA; or TCCA (or its delegated agent). As of the effective date of this AD, use only Bombardier Alert Service Bulletin A670BA-32-016, Revision F, dated May 14, 2010, excluding Appendix A, dated June 2, 2005, and including Appendix B, dated June 2, 2005.

(2) Remove the inboard MLG door in accordance with Part B of the Accomplishment Instructions of the Bombardier Alert Service Bulletin A670BA-32-016, Revision A, dated June 7, 2005, excluding Appendix A, dated June 2, 2005, and including Appendix B, dated June 2, 2005; or Bombardier Alert Service Bulletin A670BA-32-016, Revision F, dated May 14, 2010, excluding Appendix A, dated June 2, 2005, and including Appendix B, dated June 2, 2005; and accomplish paragraph (n)(2)(i) or (n)(2)(ii) of this AD, as applicable. As of the effective date of this AD, use only Bombardier Alert Service Bulletin A670BA-32-016, Revision F, dated May 14, 2010, excluding Appendix A, dated June 2, 2005, and including Appendix B, dated June 2, 2005.

(i) For Model CL-600-2C10 (Regional Jet Series 700, 701, & 702) airplanes and Model CL-600-2D15 (Regional Jet Series 705) airplanes: Revise the Configuration Deviation List (CDL), Appendix 1, of the Bombardier Canadair Regional Jet AFM, to include the following limitations. This may be accomplished by inserting a copy of this AD into the CDL of the AFM. Remove any existing CDL limitation required by paragraph (j)(3)(i) of this AD from the AFM.

For Model CL-600-2C10 (Regional Jet Series 700, 701, & 702) airplanes and Model CL-600-2D15 (Regional Jet Series 705) airplanes: If one or both door panel assemblies, part number CC670-10520, is missing:

(1) Take-off Weight is reduced by 202.5 kg/door, or 450 lb/door.

(2) Enroute Climb Weight is reduced by 445.5 kg/door, or 990 lb/door.

(3) Landing Weight is reduced by 202.5 kg/door, or 450 lb/door.

(4) Fuel Consumption is increased by +2.5% on fuel used/door.

(5) Cruise Airspeed is limited to not more than 0.78 Mach.

(6) The climb ceiling obtained from the Flight Planning and Cruise Control Manual (FPCCM) must be reduced by 1,000 ft/door.

Note 2 to paragraph (n)(2)(i) of this AD: When a statement with the information specified in paragraph (n)(2)(i) of this AD has been included in the general revisions of the AFM, the general revisions may be inserted into the AFM, and the copy of this AD may be removed from the AFM.

(ii) For Model CL-600-2D24 (Regional Jet Series 900) airplanes: Revise the CDL, Appendix 1, of the Bombardier Canadair Regional Jet AFM, to include the following limitations. This may be accomplished by inserting a copy of this AD into the CDL of the AFM. Remove any existing CDL limitation required by paragraph (j)(3)(ii) of this AD from the AFM.

For Model CL-600-2D24 (Regional Jet Series 900) airplanes: If one or both door panel assemblies, part number CC670-10520, is missing:

(1) Take-off Weight is reduced by 245 kg/door, or 540 lb/door.

(2) Enroute Climb Weight is reduced by 551 kg/door, or 1,215 lb/door.

(3) Landing Weight is reduced by 245 kg/door, or 540 lb/door.

(4) Fuel Consumption is increased by +2.5% on fuel used/door.

(5) Cruise Airspeed is limited to not more than 0.78 Mach.

(6) The climb ceiling obtained from the Flight Planning and Cruise Control Manual (FPCCM) must be reduced by 1,000 ft/door.

Note 3 to paragraph (n)(2)(ii) of this AD: When a statement with the information specified in paragraph (n)(2)(ii) of this AD has been included in the general revisions of the AFM, the general revisions may be inserted into the AFM, and the copy of this AD may be removed from the AFM.

(o) Restatement of Requirements of AD 2006-14-05, Amendment 39-14676 (71 FR 38979, July 11, 2006), With Revised Service Information: Revise CDL

For airplanes on which the door(s) have been removed in accordance with paragraph (j)(3) of this AD: Within 30 days after August 15, 2006, do the revision specified in paragraph (n)(2)(i) or (n)(2)(ii) of this AD, as applicable, and remove any revision required by paragraph (j)(3)(i) or (j)(3)(ii) of this AD.

(p) Restatement of Requirements of AD 2006-14-05, Amendment 39-14676 (71 FR 38979, July 11, 2006), With Revised Service Information: No Reporting Required

Although Bombardier Alert Service Bulletin A670BA-32-016, Revision A, dated June 7, 2005, excluding Appendix A, dated June 2, 2005, and including Appendix B, dated June 2, 2005; and Bombardier Alert Service Bulletin A670BA-32-016, Revision F, dated May 14, 2010, excluding Appendix A, dated June 2, 2005, and including Appendix B, dated June 2, 2005; specify to submit certain information to the manufacturer, this AD does not include that requirement.

(q) Restatement of Requirements of AD 2006-14-05, Amendment 39-14676 (71 FR 38979, July 11, 2006), With Revised Service Information: Credit for Previous Actions

This paragraph provides credit for actions required by paragraphs of (g) through (q) of this AD, if those actions were performed before August 15, 2006 (the effective date of AD 2006-14-05, Amendment 39-14767 (71 FR 38979, July 11, 2006), using Bombardier Alert Service Bulletin A670BA-32-016, dated June 2, 2005.

(r) New Requirements of This AD: Terminating Modification for MLG Door Configuration

Within 6,000 flight hours after the effective date of this AD, modify the MLG door, in accordance with the Accomplishment Instructions of Bombardier Service Bulletin 670BA-32-017, Revision C, dated May 14, 2010. Doing this modification terminates the requirements of this AD.

(s) New Requirements of This AD: Credit for Previous Actions

This paragraph provides credit for the modification of the MLG door required by paragraph (r) of this AD, if the modification was performed before the effective date of this AD using Bombardier Service Bulletin 670BA-32-017, dated July 24, 2006; Revision A, dated September 26, 2006; or Revision B, dated July 31, 2008; as applicable.

(t) Other FAA AD Provisions

The following provisions also apply to this AD:

(1) Alternative Methods of Compliance (AMOCs): The Manager, New York ACO, ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC, notify your appropriate principal inspector, or lacking a principal inspector, the manager of the local flight standards district office/certificate holding district office. The AMOC approval letter must specifically reference this AD. AMOCs approved previously in accordance with AD 2006-14-05, Amendment 39-14676 (71 FR 38979, July 11, 2006), are acceptable for compliance with this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(u) Related Information

Refer to MCAI TCCA Airworthiness Directive CF-2003-23R3, dated May 21, 2010, and the following service information for related information:

(1) Bombardier Alert Service Bulletin A670BA-32-016, Revision F, dated May 14, 2010, excluding Appendix A, dated June 2, 2005, and including Appendix B, dated June 2, 2005.

(2) Bombardier Service Bulletin 670BA-32-017, Revision C, dated May 14, 2010.

(v) Material Incorporated by Reference

(1) You must use the following service information to do the actions required by this AD, unless the AD specifies otherwise. The Director of the Federal Register approved the incorporation by reference (IBR) of the following service information under 5 U.S.C. 552(a) and 1 CFR part 51:

(i) Bombardier Service Bulletin 670BA-32-017, Revision C, dated May 14, 2010.

(ii) Bombardier Alert Service Bulletin A670BA-32-016, Revision F, dated May 14, 2010, excluding Appendix A, dated June 2, 2005, and including Appendix B, dated June 2, 2005.

(2) For service information identified in this AD, contact Bombardier, Inc., 400 Côte-Vertu Road West, Dorval, Québec H4S 1Y9, Canada; telephone 514-855-5000; fax 514-855-7401; email thd.crj@aero.bombardier.com; Internet http://www.bombardier.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal-register/cfr/ibr_locations.html.

Issued in Renton, Washington, on January 27, 2012.
Kalene C. Yanamura,
Acting Manager, Transport Airplane Directorate, Aircraft Certification Service.

[FR Doc. 2012-4449 Filed 2-28-12; 8:45 am]

BILLING CODE 4910-13-P